DEPARTMENT OF DEFENSE

Department of the Army

Intent To Grant an Exclusive License to Capewell, Inc.

AGENCY: Department of the Army, DoD.

ACTION: Notice.

SUMMARY: In accordance with 35 U.S.C. 209(e) and 37 CFR 404.7 (a)(l)i), announcement is made of the intent to grant an exclusive, royalty-bearing, revocable license to U.S Patent No. 6,079,791 filed June 27, 2000 entitled “Retractable Grappling Hook”, to Capewell, Inc. with its principal place of business at 105 Nutmeg Road South, South Windsor, CT 06074.

FOR FURTHER INFORMATION CONTACT: Mr. Robert Rosenkrans at U.S. Army Soldier Systems Center (SSC), Kansas Street, Natick, MA 01760, Phone; (508) 233-4928 or E-mail Robert.Rosenkrans@natick.army.mil.

SUPPLEMENTARY INFORMATION: The prospective exclusive license will be royalty bearing and will comply with the terms and conditions of 35 U.S.C. 209 and 37 CFR 404.7. The prospective exclusive license may be granted, unless within fifteen (15) days from the date of this published Notice, SSC receives written evidence and argument to establish that the grant of the license would not be consistent with the requirements of 35 U.S.C. 209 and 37 CFR 404.7.

Luz D. Ortiz,
Army Federal Register Liaison Officer.

[FR Doc. 04-1724 Filed 1-26-04; 8:45 am]

BILLING CODE 3710-08-M